DEPARTMENT OF TRANSPORTATION

Federal Highway Administration

Notice of Final Federal Agency Actions on Proposed Highway Project in Wisconsin

AGENCY: Federal Highway Administration (FHWA).

ACTION: Notice of Limitation on Claims for Judicial Review of Actions by FHWA and other Federal Agencies.

SUMMARY: This notice announces actions taken by the FHWA and other Federal Agencies that are final within the meaning of 23 U.S.C. 139(l)(1). The actions relate to the West Waukesha Bypass Project in Waukesha County, Wisconsin. Those actions grant approvals for the project.

DATES: By this notice, the FHWA is advising the public of final agency actions subject to 23 U.S.C. 139(l)(1). Claims seeking judicial review of the Federal agency actions on the highway project will be barred unless the claim is filed on or before July 2, 2015. If the Federal law that authorizes judicial review of a claim provides a time period of less than 150 days for filing such claim, then that shorter time period still applies.

FOR FURTHER INFORMATION CONTACT: George Poirier, Division Administrator, FHWA, 525 Junction Road, Suite 8000, Madison, Wisconsin 53717; telephone: (608) 829-7500. The FHWA Wisconsin Division's normal office hours are 7 a.m. to 4 p.m. central time.

SUPPLEMENTARY INFORMATION: Notice is hereby given that FHWA and other Federal agencies have taken final agency actions subject to 23 U.S.C. 139(l)(1) by issuing approvals for the following highway project: West Waukesha Bypass (County TT) from Interstate 94 (I-94) to Wisconsin 59 (WIS 59) in Waukesha County, Wisconsin. The purpose of the project is to provide a safe and efficient north-south arterial roadway on the west side of the City of Waukesha to complete the long-planned circumferential route around Waukesha; to accommodate growing traffic volumes along the corridor; and to improve roadway deficiencies that include tight curves, steep hills, narrow lanes, and lack of shoulders. The project includes reconstructing County TT, known locally as Meadowbrook Road north of US 18 and Merrill Hills Road south of US 18, from a 2‐lane undivided roadway to a 4‐lane divided roadway over a distance of approximately 5 miles. The improvements will generally follow County TT between I‐94 and Madison Street. Between Madison Street and the WIS 59/County X intersection, the improvements will be located on new alignment. To the extent practicable, the proposed County TT improvements avoid and minimize impacts to the natural, cultural, and built environment.

The actions by the Federal agencies on this project, and the laws under which such actions were taken, are described in the Record of Decision (ROD), the Final Environmental Impacts Statement (FEIS), and in other documents in the FHWA administrative record. The FEIS was approved by FHWA on September 11, 2014 and the ROD was approved by FHWA on January 20, 2015.

The ROD, FEIS, and other documents in the administrative record are available by contacting FHWA at the address provided above. The ROD and FEIS can be downloaded from the project Web site at http://www.waukeshabypass.org/default.shtm, or viewed at the FHWA Wisconsin Division Office or the Waukesha County Department of Public Works, 515 West Moreland Blvd., Room 220, Waukesha, WI 53188.

This notice applies to all Federal agency decisions as of the issuance date of this notice and all laws under which such actions were taken, including but not limited to:

1. General: National Environmental Policy Act (NEPA) [42 U.S.C. 4321-4351], Federal-Aid Highway Act [23 U.S.C. 109, 23 U.S.C. 128, and 23 U.S.C. 139].

2. Air: Clean Air Act [42 U.S.C. 7401-7671(q) and 23 U.S.C. 109(j)].

3. Land: Section 4(f) of the Department of Transportation Act of 1966 [23 U.S.C. 138 and 49 U.S.C. 303].

4. Wildlife: Endangered Species Act [16 U.S.C. 1531-1544 and Section 1536], Fish and Wildlife Coordination Act [16 U.S.C. 661-667(d)], Migratory Bird Treaty Act [16 U.S.C. 703-712].

5. Historic and Cultural Resources: Section 106 of the National Historic Preservation Act of 1966, as amended [16 U.S.C. 470(f) et seq.].

6. Social and Economic: Civil Rights Act of 1964 [42 U.S.C. 2000(d)-2000(d)(1)], Uniform Relocation Assistance and Real Property Acquisition Act of 1970 [42 U.S.C. 4601 et seq. as amended by the Uniform Relocation Act Amendments of 1987 [Pub. L. 100-17].

7. Wetlands and Water Resources: Clean Water Act (Section 404, Section 401, and Section 319) [33 U.S.C. 1251-1376].

8. Hazardous Materials: Comprehensive Environmental Response, Compensation, and Liability Act [42 U.S.C. 9601-9675].

9. Executive Orders: E.O. 11990 Protection of Wetlands, E.O. 11988 Floodplain Management, E.O. 12898 Federal Actions to Address Environmental Justice in Minority Populations and Low Income Populations, E.O. 13175 Consultation and Coordination with Indian Tribal Governments, E.O. 11514 Protection and Enhancement of Environmental Quality, E.O. 13112 Invasive Species.

(Catalog of Federal Domestic Assistance Program Number 20.205, Highway Planning and Construction. The regulations implementing Executive Order 12372 regarding intergovernmental consultation on Federal programs and activities apply to this program.)

Issued on: January 20, 2015.
George R. Poirier,
Division Administrator, Madison, Wisconsin.

[FR Doc. 2015-01834 Filed 1-30-15; 8:45 am]

BILLING CODE 4910-RY-P